DEPARTMENT OF ENERGY

Federal Energy Regulatory Commission

[Docket No. CP08-13-000]

Floridian Natural Gas Storage Company, LLC; Notice of Technical Conference

January 25, 2008.

On Thursday, February 21, 2008, at 9 a.m. (EST), staff of the Office of Energy Projects will convene an engineering design and technical conference regarding the proposed Floridian Natural Gas Storage Project. The conference will be held at the Radisson Hotel in West Palm Beach, Florida. The hotel is located at 1808 South Australian Avenue, West Palm Beach, FL 33409. For hotel details call (561) 689-6888.

In view of the nature of Critical Energy Infrastructure Information and security issues to be explored, the cryogenic conference will not be open to the public. Attendance at this conference will be limited to existing parties to the proceeding (anyone who has specifically requested to intervene as a party) and to representatives of interested federal, state, and local agencies. Any person planning to attend the February 21st cryogenic conference must register by close of business on Tuesday, February 19th, 2008. Registrations may be submitted either online at http://www.ferc.gov/whats-new/registration/cryo-conf-form.asp or by faxing a copy of the form (found at the referenced online link) to 202-208-0353. All attendees must sign a non-disclosure statement prior to entering the conference. Upon arrival at the hotel, check the reader board in the hotel lobby for venue. For additional information regarding the cryogenic conference, please contact Sentho White at (202) 502-6216.

Kimberly D. Bose,
Secretary.

[FR Doc. E8-1740 Filed 1-30-08; 8:45 am]

BILLING CODE 6717-01-P